DEPARTMENT OF THE TREASURY

Submission for OMB Review; Comment Request

June 18, 2012.

The Department of the Treasury will submit the following information collection request to the Office of Management and Budget (OMB) for review and clearance in accordance with the Paperwork Reduction Act of 1995, Public Law 104-13, on or after the date of publication of this notice.

DATES: Comments should be received on or before July 23, 2012 to be assured of consideration.

ADDRESSES: Send comments regarding the burden estimate, or any other aspect of the information collection, including suggestion for reducing the burden, to the (1) Office of Information and Regulatory Affairs, Office of Management and Budget, Attention: Desk Officer for Treasury, New Executive Office Building, Room 10235, Washington, DC 20503, or email at OIRA_Submission@OMB.EOP.GOV and to the (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Alcohol and Tobacco Tax and Trade Bureau (TTB)

OMB Number: 1513-0083.

Type of Review: Revision a currently approved collection.

Title: Excise Tax Return.

Form: 5000.24.

Abstract: Businesses, other than those in Puerto Rico, report their Federal excise tax liability on distilled spirits, wine, beer, tobacco products, cigarette papers and tubes on TTB F 5000.24. TTB needs this form to identify the taxpayer and to determine the amount and type of taxes due and paid.

Affected Public: Private Sector: Businesses or other for-profits.

Estimated Total Burden Hours: 133,453.

OMB Number: 1513-0122.

Type of Review: Extension without change of a currently approved collection.

Title: Formula and Process for Domestic and Imported Alcohol Beverages.

Form: 5000.24.

Abstract: This form is used to obtain approval of a formula for malt beverages, wine, and distilled spirits products. It ensures that these products are produced and classified according to federal regulations, and that levels of such products comply with the Federal Alcohol Administrative Act provisions.

Affected Public: Private Sector: Businesses or other for-profits.

Estimated Total Burden Hours: 8,000.

Dawn D. Wolfgang,
Treasury PRA Clearance Officer.

[FR Doc. 2012-15180 Filed 6-20-12; 8:45 am]

BILLING CODE 4810-31-P